DEPARTMENT OF THE INTERIOR

National Park Service

[NPS-WASO-NAGPRA-NPS0031200; PPWOCRADN0-PCU00RP14.R50000]

Notice of Inventory Completion: Pueblo Grande Museum, City of Phoenix, AZ; Correction

AGENCY: National Park Service, Interior.

ACTION: Notice; correction.

SUMMARY: The Pueblo Grande Museum has corrected an inventory of human remains and associated funerary objects in a Notice of Inventory Completion published in the Federal Register on May 8, 2020. This notice corrects the minimum number of individuals and the number of associated funerary objects. Lineal descendants or representatives of any Indian Tribe or Native Hawaiian organization not identified in this notice that wish to request transfer of control of these human remains and associated funerary objects should submit a written request to the Pueblo Grande Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Pueblo Grande Museum at the address in this notice by January 4, 2021.

ADDRESSES: Lindsey Vogel-Teeter, Pueblo Grande Museum, 4619 E. Washington Street, Phoenix, AZ 85034, telephone (602) 534-1572, email lindsey.vogel-teeter@phoenix.gov.

SUPPLEMENTARY INFORMATION: Notice is here given in accordance with the Native American Graves Protection and Repatriation Act (NAGPRA), 25 U.S.C. 3003, of the correction of an inventory of human remains and associated funerary objects under the control of the Pueblo Grande Museum, Phoenix, AZ. The human remains and associated funerary objects were removed from Maricopa County, AZ, as well as unspecified locations within central or southern AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects in a Notice of Inventory Completion published in the Federal Register (85 FR 27435-27443, May 8, 2020). Transfer of control of the items in this correction notice has not occurred.

Correction

In the Federal Register (85 FR 27436, May 8, 2020), column 3, paragraph 3, is corrected by substituting the following paragraph:

Between 1936 and 1939, human remains representing, at minimum, 54 individuals were removed from site AZ U:9:1(ASM)/Pueblo Grande in Maricopa County, AZ, by PGM personnel. These excavations occurred in multiple areas of the site, and the majority of this work was conducted under the supervision of Julian Hayden. The human remains have been in the collections of PGM since they were excavated, but some individuals were not identified until 2018, during a review of the faunal and unprovenanced collections. The human remains belong to 37 cremated individuals and 17 individuals from inhumations. The individuals range in age from fetal to old adult and include both males and females. No known individuals were identified. The 125 associated funerary objects are 18 ceramic bowls of plain ware, red ware, and red-on-buff ware; eight ceramic jars of plain ware and Black Mesa black-on-white ware; one ceramic pitcher; one seed jar; three scoops of red ware and red-on-buff ware; four environmental samples; two lots of textile fragments; one spindle whorl; 13 lots of worked faunal bones that include awls; eight lots of shells; seven lots of shell jewelry that include bracelets, pendants, and beads; 25 lots of ceramic sherds of plain ware, red ware, red-on-buff ware, and polychrome ware; nine lots of faunal bones, including the remains of a red-tailed hawk burial; six vessel fragments/partial vessels; one piece of stone jewelry; one worked sherd; one polishing stone; one lot of charcoal; three lots of a white chalky substance (possibly burned caliche or shell); two axes; one hammerstone; one red-on-buff censer; three palettes; two lithics; one projectile point; one turtle carapace; and one figurine.

In the Federal Register (85 FR 274441, May 8, 2020), column 3, paragraph 6, sentence 1 is corrected by substituting the following sentence:

At an unknown time, human remains representing, at minimum, 21 individuals were removed from various unidentified locations in AZ.

In the Federal Register (85 FR 274441, May 8, 2020), column 3, paragraph 6, sentences 8-11 are corrected by substituting the following sentences:

Ten of the individuals are from inhumations and 11 of the individuals are from cremations. The individuals are of varying ages and sexes. No known individuals were identified. The four associated funerary objects are one lot ceramic sherds, one lot burned faunal bone, and two lots of burned shell.

In the Federal Register (85 FR 274442, May 8, 2020), column 3, paragraph 2, sentence 1, under the heading “Determinations Made by the Pueblo Grande Museum,” is corrected by substituting the following sentence:

• Pursuant to 25 U.S.C. 3001(9), the human remains described in this notice represent the physical remains of 286 individuals of Native American ancestry.

In the Federal Register (85 FR 274442, May 8, 2020), column 3, paragraph 2, sentence 2, under the heading “Determinations Made by the Pueblo Grande Museum,” is corrected by substituting the following sentence:

• Pursuant to 25 U.S.C. 3001(3)(A), the 610 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Lindsey Vogel-Teeter, Pueblo Grande Museum, 4619 E. Washington Street, Phoenix, AZ 85034, telephone (602) 534-1572, email lindsey.vogel-teeter@phoenix.gov, by January 4, 2021. After that date, if no additional requestors have come forward, transfer of control of the human remains and associated funerary objects to the and the Ak-Chin Indian Community (previously listed as the Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'Odham Nation of Arizona; and the Zuni Tribe of the Zuni Reservation, New Mexico (hereafter referred to as “The Tribes”) may proceed.

The Pueblo Grande Museum is responsible for notifying The Tribes that this notice has been published.

Dated: November 24, 2020.
Melanie O'Brien,
Manager, National NAGPRA Program.

[FR Doc. 2020-26761 Filed 12-3-20; 8:45 am]

BILLING CODE 4312-52-P